DEPARTMENT OF DEFENSE

Uniformed Services University of the Health Sciences

Office of the Assistant Secretary of Defense for Health Affairs; Meeting of the Board of Regents of the Uniformed Services University of the Health Sciences

ACTION: Quarterly meeting notice.

SUMMARY: The actions that will take place are the approval of the minutes from the Board of Regents meetings on July 18, 2005; departmental reports; and degrees from the USU School of Medicine. The President, USU; Dean, USU School of Medicine; and Dean, USU Graduate School of Nursing will also present reports. These actions are necessary in order to remain an accredited medical school and to pursue our mission, which is to provide trained medical personnel to our uniformed services.

DATES: November 7, 2005, 8 a.m. to 3 p.m.

ADDRESSES: Uniformed Services University of the Health Sciences, Board of Regents Conference Room (D3001), 4301 Jones Bridge Road, Bethesda, MD 20814-4799.

FOR FURTHER INFORMATION CONTACT: LTC Mark Gifford, USA, Executive Secretary, Board of Regents, (301) 295-3427.

Dated: October 4, 2005.
L.M. Bynum,
Alternate OSD Federal Register Liaison Officer, Department of Defense.

[FR Doc. 05-20390 Filed 10-6-05; 11:37 am]

BILLING CODE 5001-06-M